DEPARTMENT OF HEALTH AND HUMAN SERVICES

42 CFR Part 84

[Docket Number NIOSH-005]

RIN 0920-AA10

Approval Tests and Standards for Closed-Circuit Escape Respirators

AGENCY: Centers for Disease Control and Prevention, HHS.

ACTION: Notice of proposed rulemaking; reopening of comment period.

SUMMARY: The Department of Health and Human Services (DHHS) is reopening the comment period until June 19, 2009 concerning the proposed rule for Approval Tests and Standards for Closed-Circuit Escape Respirators that was published in the Federal Register on Wednesday, December 10, 2008 (73 FR 75027). The previous comment period closed on April 10, 2009.

DATES: All written comments on the proposed rule must be received on or before June 5, 2009.

ADDRESSES: You may submit comments, identified by RIN: 0920-AA10, by any of the following methods:

• Federal eRulemaking Portal: http://www.regulations.gov. Follow the instructions for submitting comments.

• E-mail: niocindocket@cdc.gov. Include “RIN: 0920-AA10” and “42 CFR pt. 84” in the subject line of the message.

• Mail: NIOSH Docket Office, Docket #005, Robert A. Taft Laboratories, MS-C34, 4676 Columbia Parkway, Cincinnati, OH 45226.

Instructions: All submissions received must include the agency name and docket number or Regulatory Information Number (RIN) for this rulemaking, RIN: 0920-AA10. All comments received will be posted without change to http://www.cdc.gov/niosh/docket, including any personal information provided.

Docket: For access to the docket to read background documents or comments received, go to http://www.cdc.gov/niosh/docket.

FOR FURTHER INFORMATION CONTACT: Jonathan V. Szalajda, NIOSH, National Personal Protective Technology Laboratory (NPPTL), Post Office Box 18070, 626 Cochrans Mill Road, Pittsburgh, Pennsylvania 15236, telephone (412) 386-5200, facsimile (412) 386-4089, e-mail zfx1@cdc.gov.

SUPPLEMENTARY INFORMATION: The Department of Health and Human Services published a proposed rule on the Approval Tests and Standards for Closed-Circuit Escape Respirators on December 10, 2008 and asked for comments on or before February 9, 2009 (73 FR 75027). On March 4, 2009 the Department published a document announcing two public meetings and reopening the comment period for this proposed rule until April 10, 2009 (74 FR 9380). The Department held the two public meetings on March 16, 2009 and March 23, 2009. Commenters at the meeting requested additional time to review data and provide additional comment regarding the proposal. After reviewing the record, the Department has concluded that reopening the comment period until June 12, 2009 is reasonable.

Dated: May 15, 2009.
Ashley Files Flory,
Acting Executive Secretary to the Department.

[FR Doc. E9-11938 Filed 5-20-09; 8:45 am]

BILLING CODE 4163-18-P